DEPARTMENT OF COMMERCE

International Trade Administration

(A-533-845)

Glycine from India: Postponement of Preliminary Determination of Antidumping Duty Investigation

AGENCY: Import Administration, International Trade Administration, Department of Commerce.

EFFECTIVE DATE: August 23, 2007.

FOR FURTHER INFORMATION CONTACT: George Callen or Kristen Case, AD/CVD Operations, Office 5, Import Administration, International Trade Administration, U.S. Department of Commerce, 14th Street and Constitution Avenue, NW., Washington, DC 20230; telephone: (202) 482-0180 and (202) 482-3174, respectively.

SUPPLEMENTARY INFORMATION:

Postponement of Preliminary Determination

On April 19, 2007, the Department of Commerce (the Department) initiated the antidumping duty investigations of Glycine from India, Japan, and the Republic of Korea. See Glycine from India, Japan, and the Republic of Korea: Initiation of Antidumping Duty Investigations, 72 FR 20816 (April 26, 2007). The notice of initiation stated that the Department would issue its preliminary determinations for these investigations no later than 140 days after the date of issuance of the initiation (i.e., September 6, 2007), in accordance with section 733(b)(1)(A) of the Tariff Act of 1930, as amended (the Act).

On August 10, 2007, the petitioner, Geo Speciality Chemicals, Inc., made a timely request pursuant to 19 CFR 351.205(e) for a postponement of the preliminary determination with respect to India. The petitioner requested postponement of the preliminary determination in order to allow the Department additional time to determine whether the two mandatory respondents will supply complete responses and participate fully in the investigation.

For the reason identified by the petitioner and because there are no compelling reasons to deny the request, the Department is postponing the deadline for the preliminary determination with respect to India under section 733(c)(1)(A) of the Act by 50 days to October 26, 2007. The deadline for the final determination will continue to be 75 days after the date of the preliminary determination, unless extended.

This notice is issued and published pursuant to sections 733(c)(2) of the Act and 19 CFR 351.205(f)(1).

Dated: August 16, 2007.
David M. Spooner,
Assistant Secretary for Import Administration.

[FR Doc. E7-16690 Filed 8-22-07; 8:45 am]

BILLING CODE 3510-DS-S